DEPARTMENT OF HOUSING AND URBAN DEVELOPMENT

[Docket No. FR-5500-N-08]

Notice of Availability: Notice of Funding Availability (NOFA) for HUD's Fiscal Year (FY) 2011 Public and Indian Housing Resident Opportunity and Self-Sufficiency (ROSS)—Service Coordinators Program

AGENCY: Office of the Chief of the Human Capital Officer, HUD.

ACTION: Notice.

SUMMARY: HUD announces the availability on its Web site of the applicant information, submission deadlines, funding criteria, and other requirements for HUD's FY2011 Public nad Indian Housing Resident Opportunity and Self-Sufficiency (ROSS)—Service Coordinators Program NOFA. Specifically, this NOFA announces the availability of approximately $35 million made available under the Department of Defense and Full-Year Continuing Appropriations Act, 2011, Public Law 112-10, approved April 15, 2011.

The purpose of the Public and Indian Housing Resident Opportunity and Self-Sufficiency (ROSS) Service Coordinators program is to provide grants to public housing agencies (PHAs), tribes/tribally designated housing entities (TDHEs), Resident Associations (RAs), and nonprofit organizations (including grassroots, faith-based and other community-based organizations) for the provision of a Service Coordinator to coordinate supportive services and other activities designed to help Public and Indian housing residents attain economic and housing self-sufficiency.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov.

The Catalogue of Federal Domestic Assistance (CFDA) number for this program is 14.870. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: April 26, 2011.
Barbara S. Dorf,
Director, Office of Departmental Grants Management and Oversight, Office of the Chief of the Human Capital Officer.

[FR Doc. 2011-10470 Filed 4-28-11; 8:45 am]

BILLING CODE 4210-67-P